DEPARTMENT OF COMMERCE

International Trade Administration

Regents of the University of Minnesota, et. al; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). On March 25, 2020, the Department of Commerce published a notice in the Federal Register requesting public comment on whether instruments of equivalent scientific value, for the purposes for which the instruments identified in the docket(s) below are intended to be used, are being manufactured in the United States. See Application(s) for Duty-Free Entry of Scientific Instruments, 85 FR 16925-26, March 25, 2020 (Notice). We received no public comments.

Docket Number: 20-002. Applicant: Reagents of the University of Minnesota, Center for Magnetic Resonance Research, 2021 6th Street SE, Minneapolis, MN 55455. Instrument: Three-photon far infra-red laser, Germany. Manufacturer: Class 5 Photonics, Germany. Intended Use: See Notice at 85 FR 16925-26, March 25, 2020. Comments: None received. Decision: Approved. We know of no instruments of equivalent scientific value to the foreign instruments described below, for such purposes as this is intended to be used, that were being manufactured in the United States at the time of order. Reasons: The instrument will be used to study the fine structure which means on the scale of sub-microns (less than 1/1000th of 1 mm resolution) and function of cells and blood vessels in the living brains of mice. Examination of the fine structure is critical to understanding cellular communication and blood flow regulation in the brain. Laboratory mice are anesthetized, the skull is exposed, and 1,300 nm laser light is passed into the brain so that cells and blood vessels can be visualized with a microscope via three-photon fluorescence microscopy. Mice are now the most common research subjects used in biological and neuroscience research.

Dated: June 17, 2020.
Carole Showers,
Executive Director for Policy Enforcement and Compliance.

[FR Doc. 2020-13495 Filed 6-22-20; 8:45 am]

BILLING CODE 3510-DS-P